DEPARTMENT OF AGRICULTURE

Forest Service

Humboldt Toiyabe National Forest; California and Nevada; Bridgeport Ranger District Travel Management

AGENCY: Forest Service, USDA.

ACTION: Notice of intent to prepare an environmental impact statement.

SUMMARY: The Humboldt Toiyabe National Forest will prepare an Environmental Impact Statement to disclose the impacts associated with the following proposed actions:

• Restricting motor vehicles to designated roads and trails, consistent with the national travel management rule.

• Changes to the forest transportation system, including the recognition and designation of certain user-created routes for motor vehicle use.

• The Ranger District currently manages about 1500 miles of motor vehicle routes for public use. The proposed action would recognize and adopt an additional 300 additional miles of existing informal (user-created) roads and trails. Most of these have been in existence for many years, but have not been recognized as a part of the forest transportation system.

DATES: Comments concerning the scope of the analysis must be received within 30 days from the date this Notice of Intent is published in the Federal Register.

ADDRESSES: Send written comments to: Travel Management Team, Bridgeport Ranger District, HCR1, Box 1000, Bridgeport, CA 93517. E-mail comments may be submitted to comments-intermtn-humboldt-toiyabe-bridgeport@fs.fed.us.

FOR FURTHER INFORMATION CONTACT: David Loomis, Humboldt Toiyabe National Forest, 1536 S. Carson St. Carson City, NV 89701. Phone: 775-882-2766.

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands.” (USDA Forest Service, June 2004).

On November 9, 2005, the Forest Service published final travel management regulations in the Federal Register (FR Vol. 70, No. 216—Nov. 9, 2005, pp 68264-68291). This final Travel Management Rule requires designation of those roads, trails, and areas that are open to motor vehicle use on National Forests. Designations will be made by class of vehicle and, if appropriate, by time of year. The final rule prohibits the use of motor vehicles off the designated system as well as use of motor vehicles on routes and in areas that are not designated.

On some NFS lands, long managed as open to cross-country motor vehicle travel, repeated use has resulted in unplanned, unauthorized, roads and trails. These routes generally developed without environmental analysis or public involvement, and do not have the same status as NFS roads and NFS trails included in the forest transportation system. Nevertheless, some unauthorized routes are well-sited, provide excellent opportunities for outdoor recreation by motorized and non-motorized users, and would enhance the National Forest system of designated roads, trails and areas. Other unauthorized routes are poorly located and cause unacceptable impacts. Only NFS roads and NFS trails can be designated for motorized vehicle use. In order for an unauthorized route to be designated, it must first be added to the national forest transportation system (NFTS).

The Bridgeport Ranger District recently completed an inventory of unauthorized routes on NFS lands and identified approximately 800 miles of unauthorized routes. The Bridgeport Ranger District then used an interdiscipliary process to conduct travel analysis that included working with the public to determine whether any of the unauthorized routes should be proposed for addition to the Bridgeport Ranger District transportation system in this proposed action. Travel analysis developed a number of routes which could be considered in this or future decisions on the NFTS as a part of travel management on the Bridgeport Ranger District. Roads, trails and areas that are currently part of the Bridgeport Ranger District transportation system and are open to motorized vehicle travel will remain designated for such use except as described below under Proposed Action. This proposal focuses only on the prohibition of motorized vehicle travel off designated routes and needed changes to the Bridgeport Ranger District transportation system, including the addition of some user-created routes to the Bridgeport Ranger District transportation. The proposed action is being carried forward in accordance with the Travel Management Rule (36 CFR Part 212).

Purpose and Need for Action

There is a need for regulation of unmanaged motorized vehicle travel by the public. Currently, motorized vehicle travel by the public is not prohibited off designated routes in much of the Ranger District. In their enjoyment of the National Forest, motorized vehicle users have created numerous unauthorized routes. The number of such routes continues to grow each year with many routes having environmental impacts and safety concerns that have not been addressed. The Travel Management Rule, 36 CFR Part 212, provides policy for ending this trend of unauthorized route proliferation and managing the Forest transportation system in a sustainable manner through designation of motorized NFS roads, trails and areas, and the prohibition of cross-country travel. There is a need for limited changes and additions to the Bridgeport Ranger District transportation system to provide motorized access to dispersed recreation opportunities (camping, hunting, fishing, hiking, horseback riding, etc.) and to provide for a diversity of motorized recreation opportunities (4×4 Vehicles, motorcyles, ATVs, passenger vehicles, etc.).

It is Forest Service policy to provide a diversity of road and trail opportunities for experiencing a variety of environments and modes of travel consistent with the National Forest recreation role and land capability (FSM 2353.03(2)). In meeting these needs the proposed action must also achieve the following purposes:

• Avoid impacts to cultural resources.

• Provide for public safety.

• Provide for a diversity of recreational opportunities.

• Assure adequate access to public and private lands.

• Provide for adequate maintenance and administration of designations based on availability of resources and funding to do so.

• Minimize damage to soil, vegetation and other forest resources.

• Avoid harassment of wildlife and significant disruption of wildlife habitat.

• Minimize conflicts between motor vehicles and existing or proposed recreational uses of NFS lands.

• Minimize conflicts among different classes of motor vehicle uses of NFS lands or neighboring federal lands.

• Assure compatibility of motor vehicle use with existing conditions in populated areas, taking into account sound, emissions, etc.

• Have valid existing rights of use and access (rights-of-way).

Proposed Action

The proposed action would restrict motor vehicles to designated roads and trails, consistent with the national travel management rule; and change the forest transportation system, including the recognition and designation of certain user-created routes for motor vehicle use.

The Ranger District currently manages about 1500 miles of motor vehicle routes for public use. Motor vehicles will continue to be welcome on these roads and trails. The proposed action would recognize and adopt an additional 300 additional miles of existing informal (user-created) roads and trails. Most of these have been in existence for many years, but have not been recognized as a part of the forest transportation system. Maps and tables describing the proposed action can found at http://www.fs.fed.us/r4/htnf/projects/#bridgeport. In addition, maps will be available for viewing at the Bridgeport Ranger District.

Responsible Official

Cheryl Probert, District Ranger, Bridgeport Ranger District, HCR1, Box 1000, Bridgeport, CA 93517.

Scoping Process

The first formal opportunity to comment on the Bridgeport Ranger District Travel Management Project is during the scoping process (40 CFR 1501.7), which begins with the issuance of this Notice of Intent. All comments, including the names, addresses and when provided, will be placed in the record and are available for public inspection. The Forest Service is seeking comments from individuals, organizations, and local, state, and Federal agencies that may be interested in or affected by the proposed action. Comments may pertain to the nature and scope of the environmental, social, and economic issues, and possible alternatives related to the development of the travel management plan and EIS.

A series of public open houses are scheduled to explain the proposed travel plan and route designation process and to provide an opportunity for public input.

• Hawthorne, Nevada: December 8, 4-6 p.m. Mineral County Public Library. 1st and A St., Hawthorne, NV.

• Bridgeport, California: December 9, 4-6 p.m. Memorial Hall, 100 Sinclair St., Bridgeport, CA.

• Smith Valley, Nevada: December 10, 6-8 p.m. Smith Valley High School Multi Purpose Room, 20 Day Lane, Smith, NV.

Times, dates and locations will also be posted through local public notice and on the project Web page at: http://www.fs.fed.us/r4/htnf. Written comments will be accepted at these meetings.

Early Notice of Importance of Public Participation in Subsequent Environmental Review

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

Dated: November 13, 2008.
Cheryl Probert,
Bridgeport District Ranger.

[FR Doc. E8-28142 Filed 11-25-08; 8:45 am]

BILLING CODE 3410-11-P